ENVIRONMENTAL PROTECTION AGENCY

[FRL-11278-01-R3]

Notice of Tentative Approval and Opportunity for Public Comment and Public Hearing for Public Water System Supervision Program Revision for Delaware

AGENCY: Environmental Protection Agency (EPA).

ACTION: Notice of tentative approval and solicitation of requests for public hearing.

SUMMARY: Notice is hereby given that the State of Delaware is revising its approved Public Water System Supervision Program. Delaware has adopted drinking water regulations for the Stage 1 Disinfectants and Disinfection Byproduct Rule. The U.S. Environmental Protection Agency (EPA) has determined that Delaware's Stage 1 Disinfectants and Disinfection Byproduct Rule meets all minimum Federal requirements, and that it is no less stringent than the corresponding Federal regulation. Therefore, EPA has tentatively decided to approve the State program revisions.

DATES: Comments or a request for a public hearing must be submitted by April 17, 2024. This determination shall become final and effective on April 17, 2024 if no timely and appropriate request for a hearing is received, and the Regional Administrator does not elect to hold a hearing on his own motion, and if no comments are received which cause EPA to modify its tentative approval.

ADDRESSES: Comments or a request for a public hearing must be submitted to the U.S. Environmental Protection Agency, Region 3, Drinking Water Section (3WD21), 4 Penn Center, 1600 John F. Kennedy Blvd., Philadelphia, PA 19103-2852 or via email to Angela Cappetti at the email address below. All documents relating to this determination are available for inspection between the hours of 8 a.m. and 4:30 p.m., Monday through Friday, at the following offices:

• Drinking Water Section, (3WD21), U.S. Environmental Protection Agency Region 3, 4 Penn Center, 1600 John F. Kennedy Blvd., Philadelphia, PA 19103-2852

• Office of Drinking Water, Delaware Department of Health and Social Services, Division of Public Health, 43 South DuPont Hwy., Dover, DE 1990.

FOR FURTHER INFORMATION CONTACT: Angela Cappetti, Drinking Water Section, Water Division, EPA Region 3 at the address above; Telephone Number: 215-814-2348; Email Address: cappetti.angela@epa.gov; or Anthony Meadows, Drinking Water Section, Water Division, EPA Region 3 at the address below; Telephone Number: 215-814-5442; email address: meadows.anthony@epa.gov.

SUPPLEMENTARY INFORMATION: All interested parties are invited to submit written comments, via US mail or email on this determination and may request a hearing. All comments will be considered, and if necessary, EPA will issue a response. Frivolous or insubstantial requests for a hearing will be denied by the Regional Administrator. If a substantial request for a public hearing is made by April 17, 2024, a public hearing will be held. A request for public hearing shall include the following: (1) the name, address, and telephone number of the individual, organization, or other entity requesting a hearing; (2) a brief statement of the requesting person's interest in the Regional Administrator's determination and of information that the requesting person intends to submit at such hearing; and (3) the signature of the individual making the request; or, if the request is made on behalf of an organization or other entity, the signature of a responsible official of the organization or other entity.

Adam Ortiz,
Regional Administrator, EPA Region 3.

[FR Doc. 2024-05626 Filed 3-15-24; 8:45 am]

BILLING CODE 6560-50-P